DEPARTMENT OF ENERGY

Federal Energy Regulatory Commission

Combined Notice of Filings #1

Take notice that the Commission received the following exempt wholesale generator filings:

Docket Numbers: EG22-74-000.

Applicants: Magic Valley Energy Center, LLC.

Description: Notice of Self-Certification of Exempt Wholesale Generator Status of Magic Valley Energy Center, LLC.

Filed Date: 3/30/22.

Accession Number: 20220330-5068.

Comment Date: 5 p.m. ET 4/20/22.

Take notice that the Commission received the following electric rate filings:

Docket Numbers: ER10-1910-023; ER10-1911-023.

Applicants: Duquesne Power, LLC, Duquesne Light Company.

Description: Amendment to March 3, 2022 Notice of Change in Status of Duquesne Light Company, et al.

Filed Date: 3/24/22.

Accession Number: 20220324-5217.

Comment Date: 5 p.m. ET 4/14/22.

Docket Numbers: ER22-1024-001.

Applicants: MATL LLP.

Description: Tariff Amendment: Amendment to Heartland TSR Filing ER22-1114 to be effective 4/13/2022.

Filed Date: 3/30/22.

Accession Number: 20220330-5001.

Comment Date: 5 p.m. ET 4/11/22.

Docket Numbers: ER22-1494-001.

Applicants: Duke Energy Florida, LLC.

Description: Tariff Amendment: Amendment to Cancellation Filing to be effective 5/30/2022.

Filed Date: 3/30/22.

Accession Number: 20220330-5066.

Comment Date: 5 p.m. ET 4/20/22.

Docket Numbers: ER22-1495-000.

Applicants: El Paso Electric Company.

Description: § 205(d) Rate Filing: Service Agreement No. 367, EPE and Solar PV Development to be effective 3/29/2022.

Filed Date: 3/30/22.

Accession Number: 20220330-5000.

Comment Date: 5 p.m. ET 4/20/22.

Docket Numbers: ER22-1496-000.

Applicants: Southwest Power Pool, Inc.

Description: § 205(d) Rate Filing: 2646R9 Kansas Municipal Energy Agency NITSA NOA to be effective 3/1/2022.

Filed Date: 3/30/22.

Accession Number: 20220330-5013.

Comment Date: 5 p.m. ET 4/20/22.

Docket Numbers: ER22-1497-000.

Applicants: Southwest Power Pool, Inc.

Description: § 205(d) Rate Filing: 1313R15 Oklahoma Gas and Electric Company NITSA and NOA to be effective 3/1/2022.

Filed Date: 3/30/22.

Accession Number: 20220330-5022.

Comment Date: 5 p.m. ET 4/20/22.

Docket Numbers: ER22-1498-000.

Applicants: Southwest Power Pool, Inc.

Description: § 205(d) Rate Filing: Submission of Western Joint Dispatch Agreement for Guzman Energy to be effective 4/1/2022.

Filed Date: 3/30/22.

Accession Number: 20220330-5024.

Comment Date: 5 p.m. ET 4/20/22.

Docket Numbers: ER22-1499-000.

Applicants: Southern California Edison Company.

Description: § 205(d) Rate Filing: 2022 TACBAA Update to be effective 6/1/2022.

Filed Date: 3/30/22.

Accession Number: 20220330-5035.

Comment Date: 5 p.m. ET 4/20/22.

Docket Numbers: ER22-1500-000.

Applicants: Sunflower Electric Power Corporation, Southwest Power Pool, Inc.

Description: § 205(d) Rate Filing: Sunflower Electric Power Corporation submits tariff filing per 35.13(a)(2)(iii: Sunflower Electric Power Corporation Formula Rate Revisions to be effective 6/1/2022.

Filed Date: 3/30/22.

Accession Number: 20220330-5036.

Comment Date: 5 p.m. ET 4/20/22.

Docket Numbers: ER22-1501-000.

Applicants: Midcontinent Independent System Operator, Inc., Union Electric Company.

Description: § 205(d) Rate Filing: Midcontinent Independent System Operator, Inc. submits tariff filing per 35.13(a)(2)(iii): 2022-03-30_SA 3715 Ameren Missouri-Hannibal Construction Agreement to be effective 5/30/2022.

Filed Date: 3/30/22.

Accession Number: 20220330-5051.

Comment Date: 5 p.m. ET 4/20/22.

Docket Numbers: ER22-1503-000.

Applicants: Pisgah Mountain, LLC.

Description: Baseline eTariff Filing: Market-Based Rate Application to be effective 5/30/2022.

Filed Date: 3/30/22.

Accession Number: 20220330-5069.

Comment Date: 5 p.m. ET 4/20/22.

Docket Numbers: ER22-1504-000.

Applicants: PJM Interconnection, L.L.C.

Description: § 205(d) Rate Filing: Amendment to Service Agreement No. 5472; Queue No. AC1-204 to be effective 8/13/2019.

Filed Date: 3/30/22.

Accession Number: 20220330-5071.

Comment Date: 5 p.m. ET 4/20/22.

Docket Numbers: ER22-1505-000.

Applicants: WEB Silver Maple Wind, LLC.

Description: Baseline eTariff Filing: Market-Based Rate Application to be effective 5/30/2022.

Filed Date: 3/30/22.

Accession Number: 20220330-5073.

Comment Date: 5 p.m. ET 4/20/22.

Docket Numbers: ER22-1506-000.

Applicants: Midcontinent Independent System Operator, Inc.,Wabash Valley Power Association, Inc.

Description: § 205(d) Rate Filing: Midcontinent Independent System Operator, Inc. submits tariff filing per 35.13(a)(2)(iii: 2022-03-30_Revisions to Schs 7, 8, and 9 to add WVPA in NIPSCO pricing zone to be effective 6/1/2022.

Filed Date: 3/30/22.

Accession Number: 20220330-5074.

Comment Date: 5 p.m. ET 4/20/22.

Docket Numbers: ER22-1507-000.

Applicants: Orange and Rockland Utilities, Inc.

Description: § 205(d) Rate Filing: O&R Undergrounding 3-30-2022 to be effective 4/1/2022.

Filed Date: 3/30/22.

Accession Number: 20220330-5086.

Comment Date: 5 p.m. ET 4/20/22.

Docket Numbers: ER22-1508-000.

Applicants: Midcontinent Independent System Operator, Inc., Wabash Valley Power Association, Inc.

Description: § 205(d) Rate Filing: Midcontinent Independent System Operator, Inc. submits tariff filing per 35.13(a)(2)(iii: 2022-03-30_Rate Schedule 56 WVPA-NIPSCO JPZ Revenue Allocation Agreement to be effective 6/1/2022.

Filed Date: 3/30/22.

Accession Number: 20220330-5091.

Comment Date: 5 p.m. ET 4/20/22.

Docket Numbers: ER22-1509-000.

Applicants: Midcontinent Independent System Operator, Inc.

Description: § 205(d) Rate Filing: 2022-03-30_SA 3381 Duke-Greensboro Solar Center GIA 1st Rev GIA (J903 S1004) to be effective 3/18/2022.

Filed Date: 3/30/22.

Accession Number: 20220330-5116.

Comment Date: 5 p.m. ET 4/20/22.

Docket Numbers: ER22-1510-000.

Applicants: PacifiCorp.

Description: § 205(d) Rate Filing: OATT Revised Attachment H-1 (Rev Depreciation Rates 2022) to be effective 6/1/2022.

Filed Date: 3/30/22.

Accession Number: 20220330-5122.

Comment Date: 5 p.m. ET 4/20/22.

Docket Numbers: ER22-1511-000.

Applicants: Orange and Rockland Utilities, Inc.

Description: § 205(d) Rate Filing: O&R Undergrounding 3-30-2022—Revised to be effective 4/1/2022.

Filed Date: 3/30/22.

Accession Number: 20220330-5123.

Comment Date: 5 p.m. ET 4/20/22.

Docket Numbers: ER22-1512-000.

Applicants: Tumbleweed Solar, LLC.

Description: § 205(d) Rate Filing: Certificates of Concurrence and Request for Waivers and Blanket Approvals to be effective 3/17/2022.

Filed Date: 3/30/22.

Accession Number: 20220330-5151.

Comment Date: 5 p.m. ET 4/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 30, 2022.
Debbie-Anne A. Reese,
Deputy Secretary.

[FR Doc. 2022-07129 Filed 4-4-22; 8:45 am]

BILLING CODE 6717-01-P